DEPARTMENT OF DEFENSE

Department of the Army

Draft Environmental Assessment (EA) and Finding of No Significant Impact (FNSI) for the Transfer of Honey Lake at Sierra Army Depot (SIAD), Herlong, CA

AGENCY: Department of the Army, DoD.

ACTION: Notice of availability.

SUMMARY: The Department of the Army announces the availability of the EA and FNSI for the proposed action to transfer Honey Lake (property made available by the realignment of SIAD) in accordance with the Defense Base Closure and Realignment Act of 1990, Public Law 101-510, as amended.

DATES: Submit comments on or before July 11, 2003.

ADDRESSES: A copy of the EA or inquiries into the FNSI may be obtained by writing to Mr. David Bauman, U.S. Army Corps of Engineers, Sacramento District, ATTN: CESPK-PD-R, 1325 J Street, Sacramento, CA 95814 or via email at David.J.Bauman@usace.army.mil.

FOR FURTHER INFORMATION CONTACT: Mr. David Bauman at (916) 557-5256.

SUPPLEMENTARY INFORMATION: The proposed action evaluated in the EA is the transfer of property not required by the Army for its mission at Sierra Army Depot, Herlong, California. The 62,090.5 acres of Honey Lake comprise the excess property addressed in the EA.

The proposed transfer of Honey Lake to a non-Federal entity is the latest in a series of BRAC actions at SIAD. The installation has disposed of, or is in the process of disposing of, four other parcels located on the Main Depot. These include Herlong, Southeast Corner, East Shore, and the Airfield. These disposal actions at SIAD are described in the EA for the disposal and reuse of the BRAC parcels at Sierra Army Depot, California (February 1998).

Alternatives evaluated in the EA for the transfer of Honey Lake include: (1) No action, (2) transfer to the State of California or its designee, and (3) conveyance to a non-profit natural resources conservation organization. Based on the analysis in the EA, it has been determined that the transfer of Honey Lake would have no significant direct, indirect, or cumulative effects on the quality of the natural or human environment. Because no significant environmental effects would result from the transfer of Honey Lake, an Environmental Impact Statement will not be prepared.

The Army will not initiate the transfer action for 30 days following the completion of the EA and FNSI, and publication of a public notice in a local newspaper. This EA will be distributed for public review and comment, and will be available for public review at the following locations: Sierra Army Depot, Building 1, Herlong, California 96113, (530) 827-5353; Susanville Public Library, 1618 Main Street, Susanville, CA 96130, (530) 251-8127; Reno Public Library, 301 Center Street, Reno, NV 89501, (775) 327-8300; Division of Toxic Substance Control (DTSC), 8800 Cal Center Drive, Sacramento, CA 95826, (916) 255-6684.

Dated: June 6, 2003.
Raymond J. Fatz,
Deputy Assistant Secretary of the Army (Environment, Safety and Occupational Health) OASA (I&E).

[FR Doc. 03-14810 Filed 6-10-03; 8:45 am]

BILLING CODE 3710-08-M